DEPARTMENT OF EDUCATION

34 CFR Chapter II

[Docket ID ED-2026-OESE-0364]

Proposed Priorities, Requirements, and Definitions—Comprehensive Centers Program

AGENCY: Office of Elementary and Secondary Education, Department of Education.

ACTION: Proposed priorities, requirements, and definitions.

SUMMARY: The Department of Education (Department) proposes priorities, requirements, and definitions under the Comprehensive Centers (CC) Program, Assistance Listing Numbers 84.283B and 84.283D. We may use one or more of these priorities, requirements, and definitions for competitions in fiscal year (FY) 2026 and later years. The proposed priorities, requirements, and definitions are intended to redesign the CC program to better meet its statutory purpose to provide high-quality capacity-building services to State, regional, and local educational agencies and schools that improve educational opportunities and outcomes, close achievement gaps, and improve the quality of instruction for all students.

DATES: We must receive your comments on or before April 2, 2026.

ADDRESSES: Comments must be submitted via the Federal eRulemaking Portal at Regulations.gov. See the SUPPLEMENTARY INFORMATION section for more details.

FOR FURTHER INFORMATION CONTACT: Dr. Michelle Daley. Telephone: (202) 987-1057. Email: OESE.ComprehensiveCenters@ed.gov.

If you are deaf, hard of hearing, or have a speech disability and wish to access telecommunications relay services, please dial 7-1-1.

SUPPLEMENTARY INFORMATION:

Invitation to Comment: We invite you to submit comments regarding the proposed priorities, requirements, and definitions. Comments must be submitted via the Federal eRulemaking Portal at regulations.gov. However, if you require an accommodation or cannot otherwise submit your comments via regulations.gov, please contact the program contact person listed under FOR FURTHER INFORMATION CONTACT. The Department will not accept comments by fax or by email, or comments submitted after the comment period closes. Additionally, please include the Docket ID at the top of your comments.

Federal eRulemaking Portal: Go to www.Regulations.gov to submit your comments electronically. Information on using Regulations.gov, including instructions for accessing agency documents, submitting comments, and viewing the docket, is available on the site under “FAQ.” Also included on Regulations.gov is a commenter checklist that addresses how to submit effective comments. Comments containing personal threats will not be posted to Regulations.gov and may be referred to the appropriate authorities.

During and after the comment period, you may inspect public comments about the proposed priorities, requirements, and definitions by accessing Regulations.gov. To inspect comments in person, please contact the person listed under FOR FURTHER INFORMATION CONTACT.

Privacy Note: The Department's policy is to generally make all comments received from members of the public available for public viewing in their entirety on the Federal eRulemaking Portal at Regulations.gov. Therefore, commenters should be careful to include in their comments only information that they wish to make publicly available. Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 9601 et seq. and 20 U.S.C. 6674.

Background: The purpose of the Comprehensive Centers (CC) program is to provide capacity-building services to state educational agencies (SEAs), regional educational agencies (REAs), local educational agencies (LEAs), and schools that improve educational opportunities and student outcomes, close achievement gaps, and improve the quality of instruction for all students, particularly for groups of students with the greatest need.

However, the Department is concerned that its technical assistance investments, including the CC program, may be duplicative, confusing to navigate, burdensome to SEAs, LEAs, REAs, tribal educational agency (TEA), and school clients, and not responsive to State and local needs. The Department believes the CC program should be redesigned to more effectively fulfill its purpose in statute, better support the SEAs, LEAs, REAs, TEAs, schools and students it is intended to serve and focus its efforts to advance the Administration's priorities to return education to the States and promote meaningful learning opportunities to improve academic outcomes for all students.

Through this notice, the Department proposes priorities, requirements, and definitions to establish a redesigned CC network that incorporates a National Center, Regional Centers, and Content Centers, including Content Centers whose focus may be determined based on field-initiated priorities and a National Center on Improving Literacy for Students with Disabilities (funded under ALN 84.283D).

Through this redesign, the Department aims to ensure that States, tribes, and local education communities are the primary voice driving the Department's technical assistance investments; that the Department's technical assistance resources are easier to access and navigate, creating a centralized hub within the National Center to access Department technical assistance under the CC program; and that we reduce administrative burden on State agencies to receive technical assistance from Department programs.

The three proposed priorities together reflect features of the CC program that are required by program statute in the Educational Technical Assistance Act of 2002 (ETAA) and the Elementary and Secondary Education Act of 1965, as amended (ESEA). The ETAA authorizes support for not less than 20 Comprehensive Centers to support State and local educational systems to implement activities described in the ESEA to improve academic opportunities and outcomes for students. Under the ETAA, the Department must establish at least one Center in each of the 10 geographic regions served by the Department's Regional Educational Laboratories (RELs). Additionally, the Department is required under ESEA to fund one National Center on Improving Literacy for Students with Disabilities (NCIL).

This set of proposed priorities, requirements, and definitions aims to meet all required design elements while advancing the Department's vision for the CC program.

The proposed priorities and requirements also incorporate definitions from ESEA, a 2019 Notice of Final Priorities, Requirements, Definition, and Performance Measures (2019 NFP) published in the Federal Register on April 4, 2019 (84 FR 13122) and a 2024 Notice of Final Priorities, Requirements, Definitions, and Selection Criteria (2024 NFP) published in the Federal Register on May 13, 2024 (89 FR 41498). See the Proposed Definitions section for additional details on these terms.

Directed Questions

In Proposed Priority 2, the Department proposes a priority for Regional Centers that will work closely with CC clients in a subset of States to provide intensive and targeted support to meet client needs. As noted above, the Department must operate at least one Regional Center per each of the 10 REL regions but has in the past operated as many as 19 Regional Centers, with more than one Regional Center established in certain REL regions based on need, population, geography, and other factors. The Department received varying feedback on the effectiveness of different approaches to Regional Center configuration and intends for this priority to be written to be more flexible to adapt the regional configuration based on public input as well as in response to evolving data related to need and population. As such, Proposed Priority 2 does not present a specific proposed Regional Center configuration; this configuration will be identified in a competition notice inviting applications for any year in which this priority is used. Through this NPP, we are particularly interested in comments, especially from States, districts, and other local partners, about how Regional Centers can be designed to best support States and other CC beneficiaries (such as LEAs), for example, addressing the question if States prefer to work with Regional Centers that serve all States in the region where they have access to work with and learn from a larger number of States, or smaller Regional Centers that may have less capacity yet are more focused on their specific State's needs. As such, we invite responses to the following directed questions on this topic:

1. What geographic configuration and size of Regional Comprehensive Centers best meets the needs of States and other CC beneficiaries?

2. What other factors best ensure Regional Center services meet the needs of States and other CC beneficiaries in their regions?

Proposed Priorities: We propose three priorities. We may use one or more of these priorities for the FY 2026 CC Program competition or for any subsequent competition.

Proposed Priority 1: National Center

Projects that propose to establish and operate a National Center to implement and coordinate client-driven technical assistance to address SEA, REA, TEA, and LEA priorities related to evidence use and implementation of evidence-based practices to improve student outcomes. The Center will streamline access to a full inventory of Department technical assistance providers by serving as a concierge-style support to intake, assess, and direct technical assistance requests from SEAs, REAs, TEAs, and LEAs for Department technical assistance services within and beyond the CC program. In this capacity, the Center will design and implement a system to review incoming requests for technical assistance; identify appropriate technical assistance providers, which may include Regional Centers and Content Centers within the CC network, other Department technical assistance providers, and national subject matter experts as needed to meet client needs; and provide coordination support for clients to access services from identified TA providers. The National Center will serve as a lead coordinator across the CC program to ensure that all technical assistance provided by Centers reflects State-driven technical assistance priorities, reduces burdens and barriers to service for States and beneficiaries, and reflects efficient use of program resources. The Center must also provide high-quality, high-impact technical assistance and capacity-building services to address common State needs, in coordination with Regional and Content Centers; RELs; and other Department technical assistance providers and through avenues such as State-to-State learning communities.

Services must be designed to improve educational opportunities, educator practice, and student outcomes as described in section 9602(f) of the ETAA. Services shall address: priorities identified by the entire CC network, including clients and potential clients, such as those identified in State Learning Agendas; common high-leverage problems identified in Regional Center service plans; findings from finalized Department monitoring reports or audit findings; implementation challenges faced by States and LEAs related to teaching, learning, and development; needs of schools designated for improvement; needs to improve core academic instruction; and emerging education topics of national importance.

Proposed Priority 2: Regional Centers

Projects that propose to establish Regional Centers to provide intensive, client-driven technical assistance aligned to State and local priorities and needs related to selecting, implementing, and sustaining evidence-based programs, practices, and interventions in support of improved educator practice and student outcomes, especially in math and literacy.

Regional Centers must effectively work with the National Center, the REL in their region, federal technical assistance providers and Content Centers, as relevant and needed, to assist clients, reduce burdens and barriers to service for States and other clients, and avoid duplicative efforts and interventions. Regional Centers must develop cost-effective strategies to make their services available to as many SEAs, REAs, TEAs, LEAs, and schools within the region in need of support as possible. Services must be designed to improve educational opportunities, educator practice, and student outcomes as described in section 9602(f) of the ETAA.

In compliance with the requirements of Section 9602(a)(2) of the ETAA, the Department intends to establish through this priority a minimum of 10 Regional Centers that will each serve a subset of States, with at least one Regional Center per REL region. For FY 2026 or any year in which this priority is used, the Department will publish the list of Regional Centers to be established in an application notice and instructions. To determine the configuration of Regional Centers for any given competition, the Department will consider the factors outlined in the ETAA, including the school-age population, proportion of economically disadvantaged students, the increased cost burdens of service delivery in areas of sparse population, and the number of schools implementing comprehensive support and improvement activities and targeted support and improvement activities under section 1111(d) of the Elementary and Secondary Education Act of 1965 in the population served by the local entity or consortium of such entities.

Proposed Priority 3: Content Centers

Priority: Projects that propose to establish and implement a Content Center to provide technical assistance on a specific topic of national or regional importance reflected across State and local needs and priorities. Content Centers must provide high-quality, useful, and relevant client-driven, targeted and universal capacity-building services to SEA, REA, TEA, LEA, and, for the NCIL, family clients designed to build State and local capacity and improve educational opportunities, educator practice, and student outcomes (as described in section 9602(f) of the ETAA) related to their specified topic area. Content Centers must support Regional Centers, as needed, with subject matter expertise to enhance the intensive capacity-building services provided by the Regional Centers or to design universal or targeted capacity-building services to meet identified client needs.

The project must be aligned to one of the following focus areas:

Focus Area 1: Field-Initiated: To meet this focus area, an applicant must propose to establish and operate a Content Center to provide technical assistance to CC clients on an education topic of significant national or regional need, as identified by States and other CC clients. Proposals for field-initiated Centers must clearly identify the topic to be addressed, as described in section 9602(f) of the ETAA, and utilize applicable regional, State, and local educational data and needs analyses to provide evidence to demonstrate the need for the proposed Center. Field-initiated topics may include, but are not limited to, proposals that focus on specific educational needs, such as improving math and literacy achievement, college and career readiness, closing achievement gaps, or encouraging and sustaining school improvement. Applicants may propose priority topics based on State Learning Agendas or another similar identification of State and regional needs and priorities set forth by SEAs, REAs, TEAs or LEAs.¹

¹ In accordance with ETAA section 9606, the Secretary established 10 Regional Advisory Committees (RACs) in 2023 to conduct an education needs assessment and identify each region's most critical educational needs and develop recommendations for technical assistance to meet those needs. Final RAC reports were published in December 2023 on the Department's website at https://www.ed.gov/grants-and-programs/regional-advisory-committees.

Field-Initiated Centers must provide high-quality, useful, and relevant targeted and universal capacity-building services in the designated content area of expertise to SEA, REA, TEA, and LEA clients. Services must be designed to improve educational opportunities, educator practice, and student outcomes as described in section 9602(f) of the ETAA. Content Centers must identify, synthesize, and disseminate evidence-based practices to build the capacity of practitioners, education system leaders, schools, LEAs, and SEAs to use evidence in the designated content area.

Focus Area 2: Emerging Need Centers: To meet this focus area, an applicant must propose to establish and operate a Content Center to provide technical assistance to CC clients on an education topic of significant national or regional need. For FY 2026 or any year in which this priority is used, the Department will identify specific topics of emerging national or regional need for the Center; topics will be aligned to the Secretary's Supplemental Priorities, areas of need identified in the Regional Advisory Committee reports, the technical assistance topics identified in the ETAA, or other critical aspects of need related to quality implementation of programs under the ESEA. Applicants will be required to address the identified topic areas in order to be considered for funding under this focus area.

Proposals for Emerging Need Centers must clearly demonstrate how the Center will address the established topic, provide data and evidence to illustrate the technical assistance needs of CC clients related to the topic and propose an approach to capacity-building services that meet these technical assistance needs in the established topic area.

Emerging Need Centers must provide high-quality, useful, and relevant targeted and universal capacity-building services in the designated content area of expertise to SEA, REA, TEA, and LEA clients. Services must be designed to improve educational opportunities, educator practice, and student outcomes as described in section 9602(f) of the ETAA. Content Centers must identify, synthesize, and disseminate evidence-based practices to build the capacity of practitioners, education system leaders, schools, LEAs, and SEAs to use evidence in the designated content area.

Focus Area 3: National Comprehensive Center on Improving Literacy for Students with Disabilities (ALN 84.283D): To meet this priority, an applicant under this focus area must propose to establish and operate a National Comprehensive Center on Improving Literacy for Students with Disabilities focused on children in early childhood education programs through high school at risk of not attaining full literacy skills due to a disability, including dyslexia impacting reading or writing, or developmental delay impacting reading, writing, language processing, comprehension, or executive functioning.

The Center must:

(a) Identify or develop free or low-cost evidence-based literacy assessment tools for identifying students at risk of not attaining full literacy skills due to a disability,

(b) Identify evidence-based literacy instruction, strategies, and accommodations, including assistive technology, designed to meet the specific needs of such students;

(c) Provide families of such students with information to assist such students;

(d) Identify or develop evidence-based professional development for teachers, paraprofessionals, principals, other school leaders, and specialized instructional support personnel to: understand early indicators of students at risk of not attaining full literacy skills due to a disability, including dyslexia impacting reading or writing, or developmental delay impacting reading, writing, language processing, comprehension, or executive functioning; use evidence-based screening assessments for early identification of such students beginning not later than kindergarten; and implement evidence-based instruction designed to meet the specific needs of such students; and

(e) disseminate the products of the Comprehensive Center to regionally diverse SEAs, LEAs, REAs, and schools, including, as appropriate, through partnerships with other CCs established under section 9602 of this title, and RELs established under section 9564 of this title.

Types of Priorities

When inviting applications for a competition using one or more priorities, we designate the type of each priority as absolute, competitive preference, or invitational through an application notice and instructions.

The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Requirements

Program Requirements

The Department proposes the following program requirements for this program. In particular, the Department proposes that CC grantees be subject to a restricted indirect cost rate cap as requirement 5 under Program Requirements for All Centers in order to maximize the amount of direct costs going to support technical assistance and capacity-building services to clients. We may apply one or more of these requirements in any year in which this program is in effect.

Program Requirements for All Centers: National, Regional, and Content Center grantees under this program must:

(1) Create client driven service plans annually for carrying out the technical assistance and capacity-building services to be delivered by the Center in response to identified educational challenges facing students, practitioners, and education system leaders. In developing the annual service plan, the Center must provide evidence that services reflect State-identified needs and leadership priorities for assistance. Plans must include: High-leverage problems to be addressed, including identified client needs, capacity-building services to be delivered,² time-based outcomes (i.e., short-term, mid-term, long-term), responsible personnel, key technical assistance partners, milestones, outputs, dissemination plans, fidelity measures, if appropriate, and any other elements specified by the Department. Additionally, plans must demonstrate how services will prioritize support for students and communities with the highest needs, as described in section 9602(e) of the ETAA.³

² Services may include universal, targeted, and intensive capacity-building services in any of the four dimensions of capacity building services as defined by this program: human capacity, organizational capacity, policy capacity, and resource capacity.

³ Section 9602(e) of the ETAA requires each CC to prioritize school serving high percentages or number of students from low-income families, including such schools in rural and urban areas and those receiving assistance under Title I of the ESEA; LEAs with high percentages or numbers of school-age children from low-income families, including such LEAs in rural and urban areas; and schools implementing comprehensive support and improvement activities or targeted support and improvement activities under section 1111(d) of the Elementary and Secondary Education Act of 1965 [20 U.S.C. 6311(d)].

(2) Design and implement streamlined client-driven capacity-building services in partnership with State and local beneficiaries to reflect and address specific client needs.

(3) Demonstrate to the Department that it has secured client and partner commitments to carry out proposed annual service plans.

(4) Participate in a national evaluation of the CC Program.

(5) Be subject to, and all subgrantees subject to, a negotiated restricted indirect cost rate as described and determined under 34 CFR 75.563-34 CFR 75.569.

Program Requirements for National Comprehensive Center: In addition to the requirements for all Centers, National Center grantees under this program must:

(1) Design and implement a coordinated process with Regional Centers and RELs to work with individual States to develop or refine, as appropriate, and implement a multi-year State Learning Agenda to identify needs and set priorities for evidence building and educational program implementation and that will serve as a key input in annual service plans and capacity-building services.

(2) Design and implement a coordinated process to consult with and integrate ongoing feedback from the Department, Regional Centers, and Content Centers to continually improve service delivery and identify emerging high-leverage problems that could be effectively addressed through the client driven annual service plans.

(3) Design effective services to meet demonstrated collective needs with tangible, achievable capacity-building outcomes resulting from beneficiary participation. Provide opportunities for beneficiaries, including States, to learn from their peers and subject matter experts through targeted and universal capacity-building services. Universal services must be produced in a manner that beneficiaries are most likely to use, be shared via multiple digital platforms, such as the CC Network website, social media, and other channels as appropriate, and be relevant for a variety of education stakeholders, including the general public.

(4) Recruit and retain an expansive and comprehensive cadre of national subject matter experts that includes qualified education practitioners, researchers, policy professionals, and other implementation consultants with (i) direct experience working in or with SEAs, REAs, TEAs and LEAs and (ii) in-depth expertise in specific subject areas available to support universal, targeted and intensive services in a variety of content areas as reflected by State and local priorities and other emerging needs to be made available to support State needs for any National, Regional Center, REL or Content Center projects.

(5) Design and implement a concierge-style service to intake and assess technical assistance requests from CC clients, including States, and direct client requests for technical assistance to their Regional Center, REL, and other Department technical assistance providers to streamline the process for clients to access technical assistance while maintaining client autonomy in selecting the technical assistance services, provider, and supports received. This service must encompass systems to review incoming requests for technical assistance from CC clients; to identify appropriate technical assistance providers, which may include Regional Centers and Content Centers within the CC network, other Department technical assistance providers, and national subject matter experts as needed to meet client needs; and to provide coordination support for clients to access services from identified TA providers. This service must encompass Department technical assistance investments within and beyond the CC network.

(6) Design, operate and maintain communications and dissemination vehicles for the CC Network, including maintaining the CC Network website with an easy-to-navigate design that meets government or industry recognized standards for accessibility, including compliance with section 504 of the Rehabilitation Act of 1973, and maintain a consistent media presence, in collaboration with Regional and Content Centers and the Department, that promotes increased access and engagement.

(7) Create peer learning opportunities for CC Network staff (and other partners, as appropriate) to address implementation challenges and scale effective best practices to improve service delivery across the CC Network.

(8) Ensure that the Project Director can manage all aspects of the Center and is either staffed at 1 FTE or the Project Director and Co-Director or Deputies are staffed at a minimum of 1.5 FTE collectively. Dedicate sufficient resources within the Center's annual budget to meet all aspects of the priority and program requirements, including sufficient capacity for direct services and coordination responsibilities.

Program Requirements for Regional Centers: In addition to the requirements for all Centers, Regional Center grantees under this program must:

(1) Actively coordinate and collaborate with the REL serving their region to implement technical assistance in response to needs and priorities of shared clients. Coordination must include annual joint planning and establishment of a joint advisory board that meets the requirements under the ETAA Sec 203(g) (20 U.S.C. 9602). The joint advisory board must be designed to inform and improve service delivery across both programs while reducing burden on State agencies.

(2) Partner with the National Center and the REL(s) serving their region to work with each State in the region to develop or refine, as appropriate, and implement a multi-year State Learning Agenda to identify needs and set priorities for evidence building and educational program implementation. The Center must develop the annual service plan from the priorities established by States in their Learning Agendas, as well as other relevant feedback from stakeholders, including chief State school officers and other SEA leaders, TEAs, LEAs, educators, students, and parents, to reflect the most pressing needs of all States (and to the extent practicable, of LEAs) within the region to be served.

(3) Partner with clients to identify the subject matter expertise needed to provide effective capacity building services for all annual service plan projects, including utilizing the National Center cadre of subject matter experts, to procure expertise from a broad range of sources.

(4) Establish and provide the Department copies of partnership agreements with the REL(s) in the region that the Center serves, the National Center, and as appropriate, other Department-funded technical assistance providers. Partnership agreements must define processes to meet relevant program requirements.

(5) Be located in the region served. The Project Director must be capable of managing all aspects of the Center and be either at a minimum of 0.75 FTE or there must be two Co-Project Directors at a minimum of 1.0 FTE collectively. Program Requirements for Content Centers: In addition to the requirements for all Centers, grantees under this program must:

(1) Consult and integrate feedback from States, CC clients (including, for the NCIL, families), the Department, National and Regional Centers, and other stakeholders and Department technical assistance Centers, as relevant to the Center's content area in developing the annual service plan to inform high-quality tools, resources, and overall technical assistance in priority areas.

(2) Partner with the National Center and Regional Centers to directly support their States in the development and implementation of State Learning Agendas, as needed; to address requests for assistance from States within the regions; and to strengthen Regional Center staff knowledge and expertise on the evidence base and effective practices as appropriate based on the Content Center's specific focus area.

(3) Establish and provide copies to the Department of partnership agreements with the National Center, Regional Centers, as needed, and Department-funded technical assistance providers with expertise relevant to the Center's area. Partnership agreements must define processes to meet relevant CC program requirements.

(4) The Project Director must be capable of managing all aspects of the Center and be either at a minimum of 0.75 FTE or there must be two Co-Project Directors at a minimum of 1.0 FTE collectively.

Application Requirements

Application Requirements for All Centers

(1) Describe its proposed approach to capacity-building services. This must include a logic model, as well as a description of the evidence base and strategies that support its approach to capacity building services; evidence of the applicant's ability to provide effective capacity building services, such as relevant expertise in similar projects and demonstrated expertise of key personnel; the impact the Center plans to achieve and how they will measure that impact; and the proposed approach to providing capacity-building services to students with the greatest need as described in Sec. 9602(e) of the ETAA, to address the needs of all SEAs, REAs, TEAs, LEAs, and, as appropriate, schools served.

(2) Describe the proposed process to identify, in partnership with CC clients, the most urgent educational challenges to be addressed, including how the Center will ensure that the challenges to be addressed are supported by data and evidence and reflected by State and local needs and priorities.

(3) Describe the proposed approach to measure and monitor client progress or success in overcoming the challenges to be addressed, including how the Center will use data and evidence to demonstrate outcomes of universal, targeted, and intensive capacity building services, as applicable.

(4) Demonstrate expertise in providing highly relevant and highly effective technical assistance, including by demonstrating expertise in the current research on adult learning principles, coaching, and implementation science.

(5) Include in the budget narrative explanation of and estimated costs for intensive, targeted, and universal capacity-building services. Describe how the Center will promote cost-effectiveness of services, including ensuring that the estimated costs are aligned to market expectations for similar services.

(6) Include in the budget a line item for an annual set-aside of five percent of the grant amount to support emerging needs that are consistent with the proposed project's intended outcomes.

Application Requirements for the National Center: In addition to meeting the application requirements for all Centers, a National Center applicant must:

(1) Propose an approach to leading coordination and collaboration of the entire CC Network, including how the Center will fulfill the requirement to serve as a concierge-level point of entry to Department technical assistance for States and other CC clients to reduce client burden in navigating Department technical assistance services and how the Center will develop and administer access to a cadre of subject matter experts to increase access to a broad range of high-quality, relevant expertise and support across the CC network.

(2) Demonstrate a high-level expertise in leading communication and digital engagement strategies to attract and sustain the involvement of a wide range of education stakeholders. Provide an approach to creating a robust web and social media presence, overseeing customer relations management, providing editorial support to Regional and Content Centers, and utilizing web analytics to improve content engagement.

(3) Propose an approach to providing targeted and universal capacity-building services to support beneficiaries in addressing common high-leverage problems, including how the applicant intends to collaborate with Regional Centers to identify potential beneficiaries, and to maximize how many SEAs, REAs, TEAs, and LEAs it has the capacity to reach with available services.

Application Requirements for Regional Centers

In addition to meeting the application requirements for all Centers, a Regional Center applicant must—

(1) Propose an approach to intensive capacity-building services, including identification of intended beneficiaries based on available data for specific regions, and details on how the Center will ensure proposed capacity-building services are driven by client needs and co-developed with client input.

Application Requirements for Content Centers: In addition to meeting the application requirements for all Centers, a Content Center applicant must—

(1) Propose an approach to carry out capacity-building services that address client needs and priorities (to include those of families, for applicants to NCIL) that amplify the use of evidence-based practices, products or tools amongst practitioners, education system leaders, elementary schools and secondary schools, LEAs, REAs and TEAs, and SEAs.

(2) Propose an approach to providing universal capacity-building services, including how the Center will develop and widely disseminate evidence-based products or tools; outreach to practitioners, education system leaders, and policymakers in formats that are high quality, easily accessible, and understandable; identify intended beneficiaries; and ensure that proposed capacity-building services are driven by client needs and co-developed with client input.

(3) Describe the educational challenges to be addressed, including how the challenges to be addressed are supported by data and evidence and reflected by State and local needs and priorities. The description must utilize applicable regional, State, and local educational data to demonstrate the identified needs that could be addressed through the proposed capacity-building approach to implement and scale up evidence-based programs, practices, and interventions. Proposed Definitions: The Secretary proposes the following definition of “beneficiary” for use in this program in any year in which this program is in effect. We propose the definition to aid applicants in understanding the intent and purpose of the priorities and requirements. We also propose to use in the proposed priorities and requirements the following terms, which are defined in the ESEA: “evidence-based” and “tribal educational agency” and the term “logic model”, which is defined in CFR 77.1. The proposed priorities, requirements, and definitions also incorporate the following terms established for use in this program by the 2019 NFP: “milestone” and “outputs” and the following terms established for use in this program by the 2024 NFP: “capacity-building services,” “client,” “collaboration”, “coordination”, “four dimensions of capacity-building services,” “high-leverage problems,” “intensive capacity-building services”, “key personnel”, “outcomes”, “regional educational agency”, “targeted capacity-building services,” and “universal capacity-building services.” We have included the definitions of those terms in Appendix 1 to this document.

Beneficiary means organizations including, but not limited to, SEAs, LEAs, REAs, TEAs, and schools that have received “intensive” and “targeted” capacity-building services and products from Regional Centers, or that received “targeted” or “universal” capacity-building services and products from the National Center or Content Centers.

Evidence-based has the meaning ascribed in section 7801(21) of the ESEA.

Logic model has the meaning ascribed in 34 CFR 77.1(c).

Tribal educational agency has the meaning ascribed in section 6132(b)(3) of the ESEA.

Final Priorities, Requirements, and Definitions: The Department will announce the final priorities, requirements, and definitions in a document in the Federal Register. We will determine the final priorities, requirements, and definitions after considering responses to the proposed priorities, requirements, and definitions and other information available to the Department. This document does not preclude us from proposing additional priorities, requirements, or definitions, subject to meeting applicable rulemaking requirements. If the Department publishes a Notice of Final Priorities this fiscal year, the Department may decide to run a grant competition that awards new grants that replace existing CC awards.

Note: This document does not solicit applications.

In any year in which we choose to use any of the final priorities, requirements, and definitions, we invite applications through an application notice and instructions.

Executive Orders 12866, 13563, and 14192 Regulatory Impact

Analysis

This proposed regulatory action is not a significant regulatory action subject to review by OMB under section 3(f) of Executive Order 12866. Since this regulatory action is not a significant regulatory action under section 3(f) of Executive Order 12866, it is not considered an “Executive Order 14192 regulatory action.”

We have also reviewed this proposed regulatory action under Executive Order 13563. We are issuing the proposed priorities, requirements, and definitions only on a reasoned determination that their benefits would justify their minimal costs. The Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined are necessary for administering the Department's programs and activities.

Discussion of Costs and Benefits

The proposed priority would impose no or minimal costs on entities that receive discretionary grant award funds from the Department. Additionally, the benefits of implementing the proposed priority outweigh any associated costs, to the extent these de minimis costs even exist, because the proposed priority would result in higher quality grant application submissions.

Application submission and participation in competitive grant programs that might use these proposed priorities, requirements, and definitions is voluntary. We believe, based on the Department's administrative experience, that entities preparing an application would not need to expend more resources than they otherwise would have in the absence of this proposed priority. Therefore, any potential costs to applicants would be de minimis. Because the costs of carrying out activities would be paid for with program funds, the costs of implementation would not be a burden for any eligible applicants that earn a grant award, including small entities. We invite the public to comment on this discussion of estimated costs and benefits.

Intergovernmental Review: This action is subject to Executive Order 12372 and the regulations in 34 CFR part 79.

This document provides early notification of our specific plans and actions for this program.

Regulatory Flexibility Act Certification

This section considers the effects that the final regulations may have on small entities in the educational sector as required by the Regulatory Flexibility Act, 5 U.S.C. 601 et seq. The Secretary certifies that this proposed regulatory action would not have a substantial economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000. Participation in this program is voluntary. For this reason, the proposed priorities, requirements, and definitions would impose no burden on small entities unless they applied for funding under the program. We expect that in determining whether to apply for any project under the CC program funds, an eligible applicant would evaluate the requirements of preparing an application and any associated costs and weigh them against the benefits likely to be achieved by receiving a CC grant. Eligible applicants most likely would apply only if they determine that the likely benefits exceed the costs of preparing an application. The likely benefits include the potential receipt of a grant as well as other benefits that may accrue to an entity through its development of an application.

Paperwork Reduction Act

The proposed priorities, requirements, and definitions do not contain information collection requirements or affect any currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Kirsten Baesler,
Assistant Secretary for Elementary and Secondary Education.

Appendix I

The proposed priorities, requirements, and definitions incorporate the following terms established for use in this program by the 2019 and 2024 NFPs:

Capacity-building services means assistance that strengthens an individual's or organization's ability to engage in continuous improvement and achieve expected outcomes. (2024 NFP)

Client means the organization with which the Center enters into agreement for negotiated capacity-building services. The client is engaged in defining the high-leverage problems, capacity-building services, and time-based outcomes for each project noted in the Center's annual service plan. Representatives of clients include but are not limited to Chief State School Officers or their designees, LEA leaders, and other system leaders. (2024 NFP)

Collaboration means exchanging information, altering activities, and sharing in the creation of ideas and resources to enhance the capacity of one another for mutual benefit to accomplish a common goal. (2024 NFP)

Coordination means exchanging information, altering activities, and synchronizing efforts to make unique contributions to shared goals. (2024 NFP)

Four dimensions of capacity-building services are:

(1) Human capacity means development or improvement of individual knowledge, skills, technical expertise, and ability to adapt and be resilient to policy and leadership changes.

(2) Organizational capacity means structures that support clear communication and a shared understanding of an organization's visions and goals and delineated individual roles and responsibilities in functional areas.

(3) Policy capacity means structures that support alignment, differentiation, or enactment of local, State, and Federal policies and initiatives.

(4) Resource capacity means tangible materials and assets that support alignment and use of Federal, State, private, and local funds. (2024 NFP)

High-leverage problems means problems that (1) if addressed could result in substantial improvements for groups of students with the greatest need, including for students from low-income families and for students attending schools implementing comprehensive support and improvement or targeted or additional targeted support and improvement activities under ESEA section 1111(d)); (2) are priorities for education policymakers, particularly at the State level; and (3) require intensive capacity-building services to achieve outcomes that address the problem. (2024 NFP)

Intensive capacity-building services means assistance often provided on-site and requiring a stable, ongoing relationship between the Comprehensive Center and its clients and recipients, as well as periodic reflection, continuous feedback, and use of evidence-based improvement strategies. This category of capacity-building services should support increased recipient capacity in more than one dimension of capacity-building services and result in medium-term and long-term outcomes at one or more system levels. (2024 NFP)

Key personnel means any personnel considered to be essential to the work being performed on the project. (2024 NFP)

Milestone means an activity that must be completed. Examples include: Identifying key district administrators responsible for professional development, sharing key observations from needs assessment with district administrators and identified stakeholders, preparing a logic model, planning for State-wide professional development, identifying subject matter experts, and conducting train-the-trainer sessions. (2019 NFP)

Outcomes means demonstrable effects of receiving capacity-building services and must reflect the result of capacity built in at least one of the four dimensions of capacity building. “Outcomes” includes short-term outcomes, medium-term outcomes, and long-term outcomes:

(1) Short-term outcomes means effects of receiving capacity-building services after 1 year.

(2) Medium-term outcomes means effects of receiving capacity-building services after 2 to 3 years.

(3) Long-term outcomes means effects of receiving capacity-building services after 4 or more years. (2024 NFP)

Outputs means products and services that must be completed. Examples include: Needs assessment, logic model, training modules, evaluation plan, and 12 workshop presentations. (2024 NFP)

Note: A product output under this program would be considered a deliverable under the open licensing regulations at 2 CFR 3474.20.

Regional educational agency means educational agencies that serve regional areas within a State. (2024 NFP)

Targeted capacity-building services means assistance based on needs common to multiple clients and recipients and not extensively individualized. A relationship is established between the recipient(s), the National Center or Content Center, and Regional Center(s), as appropriate. This category of capacity-building services includes one-time, labor-intensive events, such as facilitating strategic planning or hosting national or regional conferences. It can also include services that extend over a period of time, such as facilitating a series of conference calls, virtual or in-person meetings, or learning communities on single or multiple topics that are designed around the needs of the recipients. Facilitating communities of practice can also be considered targeted capacity-building services. (2024 NFP)

Universal capacity-building services means assistance and information provided to independent users through their own initiative, involving minimal interaction with National or Content Center staff. This category of capacity-building services includes information or products, such as newsletters, guidebooks, policy briefs, or research syntheses, downloaded from the Center's website by independent users, and may include one-time, invited or offered webinar or conference presentations by National or Content Center staff. Brief communications or consultations by National or Content Center staff with recipients, either by telephone or email, are also considered universal services. (2024 NFP)

[FR Doc. 2026-04142 Filed 3-2-26; 8:45 am]

BILLING CODE 4000-01-P